DEPARTMENT OF JUSTICE

[OMB Number 1123-0013]

Agency Information Collection Activities; Proposed eCollection eComments Requested; United States Victims of State Sponsored Terrorism Fund Application Form

Correction

Notice document 2019-14380, appearing on pages 32474 through 32475, in the issue of July 8, 2019, was inadvertently published in error and is hereby withdrawn.

[FR Doc. C1-2019-14380 Filed 8-5-19; 8:45 am]

BILLING CODE 1301-00-D